FEDERAL FINANCIAL INSTITUTIONS EXAMINATION COUNCIL

[Docket No. AS24-02]

Appraisal Subcommittee Notice of Meeting

AGENCY: Appraisal Subcommittee of the Federal Financial Institutions Examination Council.

ACTION: Notice of special meeting.

SUMMARY: In accordance with Section 1104(b) of Title XI of the Financial Institutions Reform, Recovery, and Enforcement Act of 1989, as amended, notice is hereby given that the Appraisal Subcommittee (ASC) met for a Special Meeting on this date.

Location: Virtual meeting via Webex.

Date: January 17, 2024.

Time: 10:38 a.m. ET.

Action and Discussion Items

ASC Grants Handbook (revised)

ASC Fiscal Year 2024 Notice of Funding Availability (State Grant)

The ASC convened a Special Meeting to vote on the above-referenced items. The vote for each item passed 7-0.

James R. Park,
Executive Director.

[FR Doc. 2024-01260 Filed 1-22-24; 8:45 am]

BILLING CODE 6700-01-P